DEPARTMENT OF ENERGY

Federal Energy Regulatory Commission

[Docket No. CP02-95-000]

Steuben Gas Storage Company; Notice of Application

March 5, 2002.

Take notice that on February 22, 2002, Steuben Gas Storage Company (Steuben Gas), Nine Greenway Plaza, Houston, Texas 77046, filed an application for a certificate of public convenience and necessity pursuant to section 7 of the Natural Gas Act (NGA), as amended, and the Federal Energy Regulatory Commission's (the Commission) Rules and Regulations thereunder. Steuben Gas requests authorization to modify two wells at the Adrian storage field in Steuben County, New York. The modifications will consist of: converting Adrian No. 2 well from an observation well to an injection/withdrawal well; and, laterally extending up to 1500 feet Adrian No. 8 well. These modifications are to improve the Adrian field's late-season deliverability, while maintaining the field's maximum operating limits originally certificated, all as more fully set forth in the application, which is on file with the Commission, and open for public inspection. This filing may be viewed on the Web at http://www.ferc.gov using the “RIMS” link, select “Docket #” and follow the instructions (call 202-208-2222 for assistance).

Steuben Gas requests that the Commission issue a certificate by May 1, 2002 so that contracts may be awarded and required work completed by July 31, 2002. The cost of the modifications is estimated to be approximately $700,000. No new rates or rate schedules are proposed. The proposed modifications should improve the storage field's operating reliability and availability and provide significant operational benefits to all customers, so Steuben Gas would be allowed to roll-in the modification's costs in a future rate case. No changes are proposed to the currently authorized Maximum Daily Withdrawal Quantity or Maximum Daily Injection Quantity levels.

Questions regarding this filing should be directed to Dawn A. McGuire, Attorney, Steuben Gas Storage Company, 9 E Greenway Plaza, Houston, TX 77046 or call (832) 676-5503.

There are two ways to become involved in the Commission's review of this project. First, any person wishing to obtain legal status by becoming a party to the proceedings for this project should, on or before March 26, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the nonparty commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

If the Commission decides to set the application for a formal hearing before an Administrative Law Judge, the Commission will issue another notice describing that process. At the end of the Commission's review process, a final Commission order approving or denying a certificate will be issued.

Comments, protests and interventions may be filed electronically via the Internet in lieu of paper. See, 18 CFR 385.2001(a)(1)(iii) and the instructions on the Commission's Web site under the “e-Filing” link.

Magalie R. Salas,
Secretary.

[FR Doc. 02-5719 Filed 3-8-02; 8:45 am]

BILLING CODE 6717-01-P